DEPARTMENT OF COMMERCE

International Trade Administration

[A-583-603, C-583-604, A-580-601, C-580-602]

Continuation of Antidumping Duty Orders and Countervailing Duty Orders: Top-of-the-Stove Stainless Steel Cooking Ware From Taiwan and Korea

AGENCY: Import Administration, International Trade Administration, Department of Commerce.

ACTION: Notice of continuation of antidumping orders and countervailing duty orders: Top-of-the-stove stainless steel cooking ware from Taiwan and Korea.

SUMMARY: On July 27, 1999, and September 3, 1999, the Department of Commerce (“the Department”), pursuant to sections 751(c) and 752 of the Tariff Act of 1930, as amended (“the Act”), determined that revocation of the antidumping duty orders and countervailing duty orders on top-of-the-stove stainless steel cooking ware (“TOS cookware”) from Taiwan and the Republic of Korea (“Korea”) would likely lead to continuation or recurrence of dumping and countervailable subsidies (64 FR 40570 (July 27, 1999) and 64 FR 48372 and 48374 (September 3, 1999)). On April 5, 2000, the International Trade Commission (“the Commission”), pursuant to section 751(c) of the Act, determined that revocation of the antidumping duty orders and countervailing duty orders on TOS cookware from Taiwan and Korea would be likely to lead to continuation or recurrence of material injury to an industry in the United States within a reasonably foreseeable time (65 FR 17902 (April 5, 2000)). Therefore, pursuant to 19 CFR 351.218(f)(4), the Department is publishing this notice of the continuation of the antidumping duty orders and countervailing duty orders on TOS cookware from Taiwan and Korea.

EFFECTIVE DATE: April 18, 2000.

FOR FURTHER INFORMATION CONTACT: Darla D. Brown, Office of Policy for Import Administration, International Trade Administration, U.S. Department of Commerce, 14th Street and Constitution Avenue, NW, Washington, DC 20230; telephone: (202) 482-3207.

Background

On February 1, 1999, the Department initiated, and the Commission instituted, sunset reviews (64 FR 4840 and 64 FR 4896, respectively) of the antidumping duty orders and countervailing duty orders on TOS cookware from Taiwan and Korea pursuant to section 751(c) of the Act. As a result of these reviews, the Department found that revocation of the antidumping duty orders would likely lead to continuation or recurrence of dumping and notified the Commission of the magnitude of the margin likely to prevail were the orders revoked. ¹ In addition, the Department found that revocation of the countervailing duty orders would likely lead to continuation or recurrence of a countervailable subsidy and notified the Commission of the net subsidy likely to prevail, as well as the nature of the subsidy. ²

¹ See Final Results of Expedited Sunset Reviews: Top-of-the-Stove Stainless Steel Cookware from the Republic of Korea and Taiwan, 64 FR 40570 (July 27, 1990).

² See Final Results of Expedited Sunset Review: Top-of-the-Stove Stainless Steel Cookware from Taiwan, 64 FR 48372 (September 3, 1999); and Final Results of Expedited Sunset Review: Top-of-the-Stove Stainless Steel Cookware from the Republic of Korea, 64 FR 48374 (September 3, 1999).

On April 5, 2000, the Commission determined, pursuant to section 751(c) of the Act, that revocation of the antidumping duty orders and countervailing duty orders on TOS cookware from Taiwan and Korea would likely lead to continuation or recurrence of material injury to an industry in the United States within a reasonably foreseeable time. ³

³ See Porcelain-on-Steel Cooking Ware from China, Mexico, and Taiwan, and Top-of-the-Stove Stainless Steel Cooking Ware from Korea and Taiwan, 65 FR 17902 (April 5, 2000).

Scope

The merchandise subject to these antidumping duty orders and countervailing duty orders is TOS cookware from Korea and Taiwan. The subject merchandise is all non-electric cooking ware of stainless steel which may have one or more layers of aluminum, copper or carbon steel for more even heat distribution. The subject merchandise includes skillets, frying pans, omelette pans, saucepans, double boilers, stock pots, dutch ovens, casseroles, steamers, and other stainless steel vessels, all for cooking on stove top burners, except tea kettles and fish poachers. Excluded from the scope of the order are stainless steel oven ware and stainless steel kitchen ware. The Department has issued several scope clarifications for these two orders. For imports of the subject merchandise from South Korea, certain stainless steel pasta and steamer inserts are within the scope (63 FR 41545 (August 4, 1998)), certain stainless steel eight-cup coffee percolators are within the scope (58 FR 11209; February 24, 1993), and certain stainless steel stock pots and covers are within the scope of the order (57 FR 57420 (December 4, 1992)). For imports of the subject merchandise from Taiwan, “universal pan lids” are not within the scope of the order (57 FR 57420 (December 4, 1992)) and Max Burton's StoveTop Smoker is within the scope of the order (60 FR 36782 (July 18, 1995)). Moreover, as a result of a changed circumstances review, the Department revoked the order on Korea with regards to certain stainless steel camping ware (1) made of single-ply stainless steel having a thickness no greater than 6.0 millimeters; and (2) consists of 1.0, 1.5, and 2.0 quart saucepans without handles and with lids that also serve as fry pans (62 FR 3662 (January 24, 1997)). Subject merchandise is currently classifiable under Harmonized Tariff Schedule (HTS) item numbers 7323.93.00 and 9604.00.00. The HTS item numbers are provided for convenience and customs purposes only. The written description remains dispositive.

Determination

As a result of the determinations by the Department and the Commission that revocation of these antidumping duty orders and countervailing duty orders would likely lead to continuation or recurrence of dumping, countervailable subsidies, and material injury to an industry in the United States, pursuant to section 751(d)(2) of the Act, the Department hereby orders the continuation of the antidumping duty orders and countervailing duty orders on TOS cookware from Taiwan and Korea. The Department will instruct the U.S. Customs Service to continue to collect duty deposits at the rate in effect at the time of entry for all imports of subject merchandise.

As a result, pursuant to section 751(c)(6)(A) of the Act, the Department intends to initiate the next five-year review of these orders not later than March 2005.

Dated: April 12, 2000.
Troy H. Cribb,
Acting Assistant Secretary for Import Administration.

[FR Doc. 00-9685 Filed 4-17-00; 8:45 am]

BILLING CODE 3510-DS-P